DEPARTMENT OF ENERGY

Federal Energy Regulatory Commission

Combined Notice of Filings

Take notice that the Commission has received the following Natural Gas Pipeline Rate and Refund Report filings:

Filings Instituting Proceedings

Docket Numbers: RP15-202-000.

Applicants: WestGas InterState, Inc.

Description: Compliance filing per 154.203: 20141125_WGI Compliance_Order To Show Cause to be effective 10/16/2014.

Filed Date: 11/25/14.

Accession Number: 20141125-5046.

Comments Due: 5 p.m. ET 12/8/14.

Docket Numbers: RP15-204-000.

Applicants: Transcontinental Gas Pipe Line Company.

Description: § 4(d) rate filing per 154.204: Negotiated Rates—Northeast Connector (Partial In-Svc) to be effective 12/1/2014.

Filed Date: 11/25/14.

Accession Number: 20141125-5099.

Comments Due: 5 p.m. ET 12/8/14.

Docket Numbers: RP15-205-000.

Applicants: Transcontinental Gas Pipe Line Company.

Description: § 4(d) rate filing per 154.204: Negotiated Rates—Cherokee AGL—Replacement Shippers—Dec 2014 to be effective 12/1/2014.

Filed Date: 11/25/14.

Accession Number: 20141125-5106.

Comments Due: 5 p.m. ET 12/8/14.

Docket Numbers: RP15-206-000.

Applicants: Cameron Interstate Pipeline, LLC.

Description: § 4(d) rate filing per 154.402: Cameron Interstate Pipeline Annual LAUF_2015 to be effective 1/1/2015.

Filed Date: 11/25/14.

Accession Number: 20141125-5139.

Comments Due: 5 p.m. ET 12/8/14.

Docket Numbers: RP15-207-000.

Applicants: Questar Pipeline Company.

Description: § 4(d) rate filing per 154.204: Annual Fuel Gas Reimbursement Report for 2015 of Questar Pipeline Company to be effective 1/1/2015.

Filed Date: 11/25/14.

Accession Number: 20141125-5152.

Comments Due: 5 p.m. ET 12/8/14.

Docket Numbers: RP15-208-000.

Applicants: East Tennessee Natural Gas, LLC.

Description: § 4(d) rate filing per 154.204: Non-conforming Agreement Atmos 410527 to be effective 12/1/2014.

Filed Date: 11/25/14.

Accession Number: 20141125-5163.

Comments Due: 5 p.m. ET 12/8/14.

Docket Numbers: RP15-209-000.

Applicants: Apache Corporation, Tapstone Energy, LLC.

Description: Joint Petition for Temporary Waiver of Apache Corporation and Tapstone Energy, LLC.

Filed Date: 11/25/14.

Accession Number: 20141125-5195.

Comments Due: 5 p.m. ET 12/2/14.

Docket Numbers: RP15-210-000.

Applicants: Tennessee Gas Pipeline Company, L.L.C.

Description: Compliance filing per 154.203: Cashout Report and Refund Plan 2013-2014.

Filed Date: 11/25/14.

Accession Number: 20141125-5264.

Comments Due: 5 p.m. ET 12/8/14.

Docket Numbers: RP15-211-000.

Applicants: National Fuel Gas Supply Corporation.

Description: § 4(d) rate filing per 154.403: TSCA 2015 to be effective 1/1/2015.

Filed Date: 11/25/14.

Accession Number: 20141125-5291.

Comments Due: 5 p.m. ET 12/8/14.

Docket Numbers: RP15-212-000.

Applicants: Cheyenne Plains Gas Pipeline Company, L.

Description: § 4(d) rate filing per 154.204: Transportation Service Agreement Filing to be effective 12/1/2014.

Filed Date: 11/25/14.

Accession Number: 20141125-5351.

Comments Due: 5 p.m. ET 12/8/14.

Docket Numbers: RP15-213-000.

Applicants: El Paso Natural Gas Company, L.L.C.

Description: § 4(d) rate filing per 154.601: Non-Conforming Agreement (Dumas) to be effective 1/1/2015.

Filed Date: 11/25/14.

Accession Number: 20141125-5352.

Comments Due: 5 p.m. ET 12/8/14.

Docket Numbers: RP15-214-000.

Applicants: El Paso Natural Gas Company, L.L.C.

Description: § 4(d) rate filing per 154.204: Article 11.2(a) Inflation Rate Adjustment Filing to be effective 1/1/2015.

Filed Date: 11/26/14.

Accession Number: 20141126-5000.

Comments Due: 5 p.m. ET 12/8/14.

Docket Numbers: RP15-215-000.

Applicants: Chandeleur Pipe Line, LLC.

Description: Fuel and Line Loss Allowance Calculation filing of Chandeleur Pipe Line, LLC.

Filed Date: 11/25/14.

Accession Number: 20141125-5380.

Comments Due: 5 p.m. ET 12/8/14.

Docket Numbers: RP15-216-000.

Applicants: East Tennessee Natural Gas, LLC.

Description: § 4(d) rate filing per 154.204: Negotiated Rate for NJRES 410532 to be effective 12/1/2014.

Filed Date: 11/26/14.

Accession Number: 20141126-5020.

Comments Due: 5 p.m. ET 12/8/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-935-003.

Applicants: Questar Pipeline Company.

Description: Compliance filing per 154.203: Show Cause Order Compliance Filing to be effective 11/30/2014.

Filed Date: 11/5/14.

Accession Number: 20141105-5195.

Comments Due: 5 p.m. ET 12/1/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2014.
Nathaniel J. Davis, Sr.,
Deputy Secretary.

[FR Doc. 2014-28862 Filed 12-9-14; 8:45 am]

BILLING CODE 6717-01-P